DEPARTMENT OF THE INTERIOR

National Park Service

[2253-665]

Notice of Inventory Completion: Museum of Anthropology, Washington State University, Pullman, WA; Correction

AGENCY: National Park Service, Interior.

ACTION: Notice; correction.

Notice is here given in accordance with the Native American Graves Protection and Repatriation Act (NAGPRA), 25 U.S.C. 3003, of the completion of an inventory of human remains and associated funerary items that were in possession of the Museum of Anthropology at Washington State University, Pullman, WA. The human remains and associated funerary objects were removed from Asotin County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains was made by the Museum of Anthropology at the Washington State University professional staff in consultation with representatives of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group.

This notice corrects the minimum number of individuals for a Notice of Inventory Completion published in the Federal Register (75 FR 41883-41884, July 19, 2010). After repatriation and reburial, a re-evaluation of inventory numbers by a tribal representative resulted in an increase in the number of individuals from two to six in one of the two sites described in the previously published notice.

Paragraph number 4 is corrected by substituting the following paragraph:

In June and July of 1951, human remains representing a minimum of six individuals were removed from the Steptoe Burial site (45AS2), in Asotin County, WA. The burials were removed as part of an archeological study performed by the Department of Anthropology at Washington State University under the direction of Dr. Richard Daugherty. No known individuals were identified. The 57 associated funerary objects are 4 projectile points, 2 scrapers, 1 bone scraper handle, 1 lot of mussel shells, 1 lot of red ochre, 2 bone awls, 1 lot of charcoal, 1 pestle, 2 lots of cedar wood fragments, 3 lots of shell beads, 1 stone bead necklace, 2 bifaces, 5 lots of bag residue, 4 lots of animal bones, 1 stone net sinker, 1 lot of tin can fragments, 2 fragments of flatware, 1 lot of buttons, 6 lots of fabric fragments, 3 lots of nails, 2 lots of metal fragments, 3 lots of glass beads, 3 lots of modified wood fragments, and 5 lots of leather fragments.

Paragraph 10 is replaced with the following:

Officials of the Museum of Anthropology at the Washington State University have determined, pursuant to 25 U.S.C. 3001(9), that the human remains described above represent the physical remains of nine individuals of Native American ancestry. Officials of the Museum of Anthropology at the Washington State University also have determined, pursuant to 25 U.S.C. 3001(3)(A), that the 59 objects described above are reasonably believed to have been placed with or near individual human remains at the time of death or later as part of the death rite or ceremony. Lastly, officials of the Museum of Anthropology at the Washington State University, have determined, pursuant to 25 U.S.C. 3001(2), that there is a relationship of shared group identity that can be reasonably traced between the Native American human remains and associated funerary objects and the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group.

Representatives of any other Indian tribe that believes itself to be culturally affiliated with the human remains and associated funerary items should contact Mary Collins, Director, Museum of Anthropology at the Washington State University, P.O. Box 62291, Pullman, WA 99164-4910, telephone (509) 335-4314. Repatriation of the human remains and associated funerary objects to the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group, occurred after the 30 day comment period expired for the original July 19, 2010, Notice of Inventory Completion.

The Museum of Anthropology at the Washington State University is responsible for notifying the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group, that this notice has been published.

Dated: May 9, 2011.
Sherry Hutt,
Manager, National NAGPRA Program.

[FR Doc. 2011-11852 Filed 5-12-11; 8:45 am]

BILLING CODE 4310-50-P